DEPARTMENT OF DEFENSE

Department of the Army; Corps of Engineers

Notice of Availability of the Draft Supplemental Environmental Impact Statement (DSEIS) for the Nourishment of 25,000 Feet of Beach in Topsail Beach, Pender County, NC

AGENCY: Department of the Army, U.S. Army Corps of Engineers, DoD.

ACTION: Notice of availability.

SUMMARY: The U.S. Army Corps of Engineers (USACE), Wilmington District, Wilmington Regulatory Field Office has received a request for Department of the Army authorization, pursuant to Section 404 of the Clean Water Act and Section 10 of the Rivers and Harbors Act, from the Town of Topsail Beach to conduct a one-time interim beach fill project to protect oceanfront development and infrastructure until such time that a federally authorized shore protection project can be implemented. While federal budget priorities have made it difficult to obtain funds for civil works projects in general and beach protection projects in particular, the projected earliest construction date for the federal project is 2012. A Draft General Reevaluation Report—Environmental Impact Statement (GRR-EIS) has been prepared by the USACE and was released for public review and comment in June 2006 (USACE, 2006). Given the current status of the GRR-EIS and the need for Congressional authorization, funding, preparation of plans and specifications, and right-of-way acquisition, the federal project may not be implemented until Fiscal Year 2012, or possibly later. Accordingly, the Town would like to construct an interim project to protect its development and infrastructure during the period between now and the time the federal project is constructed. In order to account for any possible delays in the construction of the federal project, a construction date of 2016 was used in the development of the alternatives and economic analysis for the interim project. This would maintain the baseline conditions described in the Draft GRR and EIS.

ADDRESSES: Copies of comments and questions regarding the DSEIS may be addressed to: U.S. Army Corps of Engineers, Wilmington District, Regulatory Division. ATTN: File Number SAW-2006-40848-071, Post Office Box 1890, Wilmington, NC 28402-1890.

FOR FURTHER INFORMATION CONTACT: Questions about the proposed action and DSEIS can be directed to Mr. Dave Timpy, Wilmington Regulatory Field Office, telephone: (910) 251-4634.

SUPPLEMENTARY INFORMATION: 1. Project Description. The fill placement area will occur between Godwin Avenue on the south to a point 2,000 feet northeast of Topsail Beach/Surf City town limits, a total ocean shoreline length of approximately 25,000 feet. The fill would consist of three sections, a 1,000-foot transition on the south beginning at a point opposite Godwin Avenue, a 22,000-foot main fill section that would extend to the Topsail Beach/Surf City town limits, and a 2,000-foot northern transition (Figure 1). The beach fill would have a variable width berm constructed to an elevation of +6.0 feet NAVD. The volume of material for the emergency project is based on providing erosion protection until such time a federal storm damage reduction project is implemented.

The volume of beach fill material could range from a minimal amount needed to counter long-term erosion losses during the interim period (approximately 5 years) to a maximum amount that would include a contingency volume to account for possible storm related erosion losses during the time period. The material to construct the emergency project would be derived from an offshore borrow site or a combination of borrow sites. The potential borrow sites include a portion of Borrow Area A (Borrow Area A1) identified by the USACE in the Draft GRR/EIS with the area considered for the emergency project shown in Figure 1. Borrow Area A1 contains a total volume of approximately 2.0 million cy. The second potential borrow area, designated as Borrow Area X in Figure 1, was developed specifically for the interim project and lies offshore of New Topsail Inlet outside the areas investigated by the USACE. Borrow Area X also contains approximately 2.0 million cy. Borrow Area B (Figure 1) is considered as a possible source for the interim project, however the volume of material available in Borrow Area B is an estimated total volume of 820,000 gross cy with an overfill factor of 1.23 resulting in a potential net volume of suitable beach fill material of 660,000 cy. The superposition of the 500 m buffer around the probable hardbottom areas located close to Borrow Area B eliminated approximately 54% of the area. The remaining area of Borrow Area B lying outside the 500 m buffer contains approximately 230,000 cy of relatively fine grained material (0.19 mm mean grain size) in a shallow deposit (2 to 3 ft). The shallow nature of the deposit in Borrow Area B would not render it economical to dredge with a cutterhead pipeline dredge. Ultimately, the small volume of material that could reasonably be obtained from Borrow Area B compared to the increase in potential environmental resources associated with the placement of pipeline around probable hardbottom or use of a hopper dredge resulted in its elimination as a viable borrow source for the Topsail Beach Interim Beach Fill Project. In addition to the borrow areas discussed above, the USACE identifies an additional five (5) offshore borrow areas in Section 7.04 of the Draft GRR/EIS (USACE, 2006). These offshore borrow areas, Borrow Areas A, C, D, E, and F, lie seaward of the 3-mile state territorial limit and would require permits from the U.S. Minerals Management Service (MMS). Usage of the USACE offshore borrow areas located beyond the 4.8 km (3 mi) state territorial limit would not meet the purpose and need of the project. In particular, the acquisition and utilization of beach compatible material for shore protection project no later than March 31, 2009.

A possible fourth source of borrow material, Banks Channel located behind Topsail Beach, was considered a potential alternative however it has not been evaluated in detail due to the small volume of material that could be removed from within the limits of the authorized navigation channel. A recent maintenance operation in Banks Channel and Old Topsail Creek, completed in fall 2007, removed approximately 160,000 cy of shoal material and deposited the material along 4,000 feet of shoreline extending north of the Sea Vista Hotel/Condominium. This operation further reduced the quantity of material that could be used for the interim project that would be available from the existing navigation channels. Upland borrow sources are not an economical option for the emergency project. Cost estimates for truck haul material from upland borrow areas located near the Town of Wallace, NC determined the unit cost for the material was non-competitive. Accordingly, upland borrow sources were not evaluated in detail for the proposed emergency project.

Beach fill alternatives evaluated in detail for the interim project are listed below and include constructing the project using Borrow Area A1, Borrow Area X, or a combination of Borrow Areas X and A1. For the combined use of Borrow Areas X and A1, only the two seaward most dredge cuts of Borrow Area X would be used. This particular portion of Borrow Area X contains an estimated 784,000 cy of material. The Applicant's Preferred Alternative includes the use of Borrow Area X which contains an estimated 2.0 million cy of material. Two dredging methods were also evaluated; ocean certified cutter-suction pipeline dredge (pipeline dredge) and hopper dredge using direct pumpout (hopper dredge).

The naming convention for the various beach fill alternatives is as follows:

Alternative 3a: Borrow Area A1 with pipeline dredge.

Alternative 3b: Borrow Area X with pipeline dredge.

Alternative 3c: Borrow Areas X and A1 with pipeline dredge.

Alternative 3d: Borrow Area A1 with hopper dredge.

Alternative 3e: Borrow Area X with hopper dredge.

Alternative 3f: Borrow Areas X and A1 with hopper dredge.

Based on the goals, needs and objectives of the emergency project, Alternative 3b is the Applicant's Preferred Alternative. The proposed construction timeframe for the interim beach fill activities will occur in early calendar year 2009.

Beach Fill Surveys & Design. Typical cross-sections of the beach along the Topsail Beach project area will be surveyed. Nearshore profiles will extend seaward to at least the −30-foot NAVD depth contour. The total volume of beach fill to be placed in front of the existing development and infrastructure will be based on an evaluation of erosion of the project area from 2002 through the expected construction date of the Federal project. Additional offshore and inshore data for Lea/Hutaff Island were also obtained along the northern 5,000 feet of the island. This data was used in the evaluation of possible impacts associated with the removal of sediment from the selected offshore borrow area and for future impact evaluations following project implementation through the use of numerical modeling.

Geotechnical Investigations. The offshore sand search investigations have included bathymetric surveys, sidescan sonar surveys, seismic surveys, cultural resource surveys, vibracore collection and analysis, and ground-truth diver surveys to verify existence or non-existence of hard bottoms. The results of the offshore investigations coupled with the compatibility of the sand resource area and native beach sand were assessed to define the borrow area. All sediment compatibility assessments were based on State of North Carolina sediment compatibility standards that went into effect in February 2007.

Environmental Resource Coordination & Permitting. The USACE prepared a General Reevaluation Report—Environmental Impact Statement (GRR-EIS) for the larger federal shore protection project (June 2006). The next step for the West Onslow Project is for the USACE to release the Final GRR and EIS for public and agency review and comment in summer 2008. The interim beach fill project will be subject to Section 10 of the Rivers and Harbors Act, Section 404 of the Clean Water Act and the North Carolina Environmental Policy Act (NCEPA).

Preliminary coordination with the USACE-Wilmington District resulted in a determination that a Department of the Army Application for an Individual Permit will be needed for project compliance with Sections 10 and 404. Similarly, coordination with the North Carolina Division of Coastal Management (NCDCM) determined that the project would require a State EIS developed in accordance with NCEPA; as well as a Major Permit under the Coastal Area Management Act.

2. Proposed Action. The scope of activities for the proposed interim beach fill project included: (a) Vibracores in the identified borrow area, (b) side scan sonar surveys of the ocean bottom, (c) in-water investigations of potential near shore hardbottom resources identified by the side scan sonar survey, and (d) beach profile surveys. Offshore investigations included bathymetric surveys, sidescan sonar surveys, seismic and cultural resource surveys, as well as vibracore collection and analysis. The results of the offshore investigations coupled with the compatibility of the sand resource area and native beach sand were assessed to define the borrow area.

3. Issues. There are several potential environmental issues that are addressed in the DSEIS. Additional issues may be identified during the public review process. Issues initially identified as potentially significant include:

a. Potential impact to marine biological resources (benthic organisms, passageway for fish and other marine life) and Essential Fish Habitat, particularly hardbottoms.

b. Potential impact to threatened and endangered marine mammals, birds, fish, and plants.

c. Potential impacts to water quality.

d. Potential increase in erosion rates to adjacent beaches.

e. Potential impacts to navigation, commercial and recreational.

f. Potential impacts to private and public property.

g. Potential impacts on public health and safety.

h. Potential impacts to recreational and commercial fishing.

i. The compatibility of the material for nourishment.

j. Potential economic impacts.

4. Alternatives. Several alternatives are being considered for the proposed project. These alternatives were further formulated and developed during the scoping process and an appropriate range of alternatives, including the No Action and Non Structural alternative, are considered in the Draft Supplemental EIS.

5. Scoping Process. Project Delivery Team meetings were held to receive comments and assess concerns regarding the appropriate scope and preparation of the DSEIS. Federal, state, and local agencies and other interested organizations and persons participated in these Project Delivery Team meetings.

The COE is also consulting with the U.S. Fish and Wildlife Service under the Endangered Species Act and the Fish and Wildlife Coordination Act, and with the National Marine Fisheries Service under the Magnuson-Stevens Act and Endangered Species Act. Additionally, the Draft Supplemental EIS has assessed the potential water quality impacts pursuant to Section 401 of the Clean Water Act, and is being coordinated with NCDCM to determine the projects consistency with the Coastal Zone Management Act. The USACE will closely work with NCDCM through the DSEIS to ensure the process complies with all North Carolina Environmental Policy Act (NCEPA) requirements. It is the USACE and NCDCM's intentions to consolidate both NEPA and NCEPA processes to eliminate duplications.

6. Availability of the Draft Supplemental EIS. The DSEIS has been published and circulated, and a public hearing will be held August 26, 2008 at the Historical Society Assembly Building, 720 Channel Blvd., Topsail Beach, NC at 6 p.m.

Brenda S. Bowen,
Army Federal Register Liaison Officer.

[FR Doc. E8-17079 Filed 7-24-08; 8:45 am]

BILLING CODE 3710-GN-P